INTERNATIONAL TRADE COMMISSION

[Investigation No. 332-502]

Sub-Saharan African Textile and Apparel Inputs: Potential for Competitive Production

AGENCY: United States International Trade Commission.

ACTION: Revised deadline for filing pre-hearing briefs and statements.

SUMMARY: The Commission has revised the deadline for filing pre-hearing briefs and statements for investigation No. 332-502, Sub-Saharan African Textile and Apparel Inputs: Potential for Competitive Production, from January 17, 2009 to January 16, 2009. The revised schedule reflecting this change is set out immediately below. All other requirements and procedures set out in the November 19, 2008 notice continue to apply (73 FR 71682).

DATES:

January 15, 2009: Deadline for filing request to appear at the public hearing.

January 16, 2009: Deadline for filing pre-hearing briefs and statements.

January 29, 2009: Public hearing.

February 12, 2009: Deadline for filing post-hearing briefs and statements.

February 24, 2009: Deadline for filing all other written submissions.

May 15, 2009: Transmittal of Commission report to the appropriate congressional committees and the Comptroller General.

FOR FURTHER INFORMATION CONTACT: Project leader Kimberlie Freund (202-708-5402 or kimberlie.freund@usitc.gov) or deputy project leader Joshua Levy (202-205-3236 or joshua.levy@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet site (http://www.usitc.gov). Persons with mobility impairments who will need special assistance in gaining access to the Commission should contact the Office of the Secretary at 202-205-2000.

Issued: December 12, 2008.
By order of the Commission.
William R. Bishop,
Hearing and Meetings Coordinator.

[FR Doc. E8-29962 Filed 12-17-08; 8:45 am]

BILLING CODE 7020-02-P